DEPARTMENT OF HEALTH AND HUMAN SERVICES

National Institutes of Health

National Institute of Environmental Health Sciences; Amended Notice of Meeting

Notice is hereby given of a change in the meeting of the National Institute of Environmental Health Sciences Special Emphasis Panel, October 17, 2002, 2 p.m. to October 17, 2002, 3 p.m., NIEHS, 79 T.W. Alexander Drive, Building 4401, Conference Room 122, Research Triangle Park, NC 27709 which was published in the Federal Register on August 29, 2002, 67 FR 55412.

The telephone conference meeting will be held on 10/24/2002 at 2 p.m. instead of 10/17/2002 as previously advertised. The meeting is closed to the public.

Dated: September 11, 2002.
LaVerne Y. Stringfield,
Director, Office of Federal Advisory Committee Policy.

[FR Doc. 02-23631 Filed 9-17-02; 8:45 am]

BILLING CODE 4140-01-M